COMMITTEE FOR PURCHASE FROM PEOPLE WHO ARE BLIND OR SEVERELY DISABLED

Notice of Availability

AGENCY: Committee for Purchase From People Who Are Blind or Severely Disabled.

ACTION: Notice of availability.

SUMMARY: Pursuant to Executive Order 13891 and OMB Memorandum M-20-02, the U.S. AbilityOne Commission (Commission) is announcing the February 28, 2020, launch of a single, searchable, indexed database containing all Commission guidance documents currently in effect.

DATES: Applicable February 28, 2020.

ADDRESSES: www.abilityone.gov/guidance.

FOR FURTHER INFORMATION CONTACT: Brian Hoey, 703.603.2114, guidanceportal@abilityone.gov.

SUPPLEMENTARY INFORMATION: Section 3 of Executive Order 13891 requires each federal agency to “establish or maintain on its website a single, searchable, indexed database that contains or links to all guidance documents in effect from such agency or component.” Exec. Order No. 13,891, 84 FR 55,235 (Oct. 15, 2019).

OMB Memorandum M-20-02 further requires agencies to “send to the Federal Register a notice announcing the existence of the new guidance portal and explaining that all guidance documents remaining in effect are contained on the new guidance portal.” OMB Memorandum M-20-02, Guidance Implementing Executive Order 13891, titled “Promoting the Rule of Law Through Improved Agency Guidance Documents” (Oct. 31, 2019).

In compliance with the above, the Commission is announcing the availability of a single, searchable, indexed database containing all Commission guidance documents currently in effect, which may be accessed at www.abilityone.gov/guidance on or after February 28, 2020.

(Authority: E.O. 13891; OMB Memorandum M-20-02.)

Patricia Briscoe,
Deputy Director, Business Operations (Pricing and Information Management).

[FR Doc. 2020-04112 Filed 2-27-20; 8:45 am]

BILLING CODE 6353-01-P